CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

The Corporation proposes to conduct a series of outcome measurement surveys among a sample of AmeriCorps members, AmeriCorps sub-grantee organizations that deliver services, and end-beneficiaries of the services provided by projects in which AmeriCorps sub-grantee organizations and members are involved. The information will meet the federal government's accountability requirements under the Government Performance Results Act of 1993 and, at the same time, be useful to AmeriCorps program managers.

DATES: Written comments must be submitted to the office listed in the ADDRESSES section by March 22, 2004.

ADDRESSES: You may submit comments, identified by the title of the information collection activity, by any of the following methods:

(1) By mail sent to: Corporation for National and Community Service, Attn: Kevin Cramer, Department of Research and Policy Development, Room 8109, 1201 New York Avenue, NW., Washington, DC 20525.

(2) By hand delivery or by courier to the Corporation's mailroom, Room 6010, at the mail address given in paragraph (1) above, between 9 a.m. and 4 p.m. Monday through Friday, except Federal holidays.

(3) By fax to: (202) 565-2785, Attn: Kevin Cramer, Department of Research and Policy Development.

(4) Electronically through the Corporation's e-mail address system: kcramer@cns.gov.

FOR FURTHER INFORMATION CONTACT: Kevin Cramer at (202) 606-5000, ext. 232.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information to those who are to respond, including through the use of appropriate automated, electronic, mechanical, or other technological collection techniques or other forms of information technology, e.g. permitting electronic submissions of responses.

Title of Information Collection Activity: Performance Measurement in AmeriCorps.

Background: The Corporation is strongly committed to making its performance measurement and management systems more results oriented in order to strengthen the accountability and performance of its programs. As part of its effort to do so, there is a need to collect outcome information regarding the Corporation's AmeriCorps programs (consisting of AmeriCorps*State and National, AmeriCorps*VISTA, and AmeriCorps*National Civilian Community Corps (NCCC)). Information on program performance will be informed by a series of surveys, to be conducted electronically and by telephone, of a sample of AmeriCorps members, sub-grantee organizations that deliver services, and end-beneficiaries of the services provided by projects in which AmeriCorps sub-grantee organizations and AmeriCorps members are involved.

Current Action: The Corporation seeks public comment on the survey instruments and forms that will be used to collect and report information on program performance.

Agency: Corporation for National and Community Service.

Title: Performance Measurement in AmeriCorps.

OMB Number: None.

Agency Number: None.

Affected Public: AmeriCorps members, sub-grantee organizations, and service beneficiaries.

Total Respondents: 4,250.

Frequency: Annually.

Average Time Per Response: 10 minutes.

Estimated Total Burden Hours: 708 hours.

Total Burden Cost (capital/startup): None.

Total Burden Cost (operating/maintenance): None.

Comments submitted in response to this notice will be summarized and/or included in the request for Office of Management and Budget approval of the information collection request; they will also become a matter of public record.

Dated: January 14, 2004.
David A. Reingold,
Director, Department of Research and Policy Development.

[FR Doc. 04-1211 Filed 1-20-04; 8:45 am]

BILLING CODE 6050-$$-P